DEPARTMENT OF ENERGY

Energy Information Administration

Agency Information Collection Activities: Proposed Collection; Comment Request

AGENCY: Energy Information Administration, DOE.

ACTION: Agency information collection activities: Proposed collection; comment request.

SUMMARY: The Energy Information Administration (EIA) is soliciting comments on the proposed reinstatement and three-year extension of Form EIA-457A-G, “Residential Energy Consumption Survey (RECS)”.

DATES: Written comments must be submitted on or before August 29, 2000. If you anticipate difficulty in submitting comments within that period, contact the person listed below as soon as possible.

ADDRESSES: Send comments to Michael T. Laurence, Office of Energy Markets and End-Use, Energy Consumption Division, EI-63, Forrestal Building, U.S. Department of Energy, Washington, D.C. 20585-0660. Alternatively, Michael T. Laurence may be reached by phone at 202-586-2453, by e-mail michael.laurence@eia.doe.gov, or by FAX 202-586-0018.

FOR FURTHER INFORMATION CONTACT: Requests for additional information or copies of the form and instructions should be directed to Michael T. Laurence at the address listed above.

SUPPLEMENTARY INFORMATION:

I. Background

II. Current Actions

III. Request for Comments

I. Background

The Federal Energy Administration Act of 1974 (Pub. L. 93-275, 15 U.S.C. 761 et seq.) and the Department of Energy Organization Act (Pub. L. 95-91, 42 U.S.C. 7101 et seq.) require the Energy Information Administration (EIA) to carry out a centralized, comprehensive, and unified energy information program. This program collects, evaluates, assembles, analyzes, and disseminates information on energy resource reserves, production, demand, technology, and related economic and statistical information. This information is used to assess the adequacy of energy resources to meet near and longer term domestic demands.

The EIA, as part of its effort to comply with the Paperwork Reduction Act of 1995 (Pub. L. 104-13, 44 U.S.C. Chapter 35), provides the general public and other Federal agencies with opportunities to comment on collections of energy information conducted by or in conjunction with the EIA. Any comments received help the EIA to prepare data requests that maximize the utility of the information collected, and to assess the impact of collection requirements on the public. Also, the EIA will later seek approval by the Office of Management and Budget (OMB) of the collections under Sections 3507(h)(1) and 3506(c) of the Paperwork Reduction Act of 1995.

The Residential Energy Consumption Survey (RECS) is a periodic survey of U.S. households to collect energy consumption and expenditures data and track changes over time. The data are widely used throughout the government and the private sector for policy analysis and are made available to the public in a variety of publications, electronic products, and electronic data files. Results from the survey are presented in both printed form (e.g., U.S. Department of Energy, Energy Information Administration, A Look at Residential Consumption in 1997, November 1999, DOE/EIA-0632(97)) and at EIA's web site at http://www.eia.doe.gov/emeu/recs/contents.html.

II. Current Actions

This is a reinstatement of OMB No. 1905-0092 that expired March 31, 2000. The reinstatement will be for a three-year period with an expiration date of January 31, 2004. No significant changes in the RECS are being implemented. Due to funding restraints, the RECS is conducted on a quadrennial schedule, a schedule established with the 1997 RECS. The use of Computer-Assisted Personal Interviewing (CAPI), a technology implemented with the 1997 RECS, will be continued.

The content of the survey questionnaires to be used in the 2001 RECS will be substantially the same as those used in the 1997 RECS. Minor wording changes may be made in the interest of clarity. Some questions that yielded little useful data will be deleted, while questions dealing with new energy-consuming appliances will be added.

The only notable methodological change will be the timing of the Rental Agents, Landlords, and Apartment Managers Survey (Form EIA-457C). Instead of being conducted after the household interview (Form EIA-457A), it will be conducted either prior to, or concurrently with, the interviews at the sampled households living in multi-unit buildings. The change in the time of the collection of energy-related data from the lessors of housing units included in the RECS will ease the burden on household respondents, who may not know about the energy aspects of the apartments they rent, and will also improve the quality of the household data.

III. Request for Comments

Prospective respondents and other interested parties should comment on the actions discussed in item II. The following guidelines are provided to assist in the preparation of comments.

General Issues

A. Is the proposed collection of information necessary for the proper performance of the functions of the agency and does the information have practical utility? Practical utility is defined as the actual usefulness of information to or for an agency, taking into account its accuracy, adequacy, reliability, timeliness, and the agency's ability to process the information it collects.

B. What enhancements can be made to the quality, utility, and clarity of the information to be collected?

As a Potential Respondent

A. Are the instructions and definitions clear and sufficient? If not, which instructions need clarification?

B. Can the information be submitted by the due date?

C. Public reporting burden for this collection is estimated to average 30 minutes per response for Form EIA-457A, Household Questionnaire; 20 minutes per response for Form EIA-457B, Mail version of the Household Questionnaire; 15 minutes per response for Form EIA-457C, Rental Agents, Landlords, and Apartment Managers; 30 minutes per response for Form EIA-457D, Household Bottle Gas (LPG or Propane) Usage; 30 minutes per response for Form EIA-457E, Household Electricity Usage; 30 minutes per response for Form EIA-457F, Household Natural Gas Usage; and 30 minutes per response for Form EIA-457G, Household Fuel Oil or Kerosene Usage. The estimated burden includes the total time, effort, or financial resources expended to generate, maintain, retain, disclose and provide the information. Please comment on the accuracy of the estimate.

D. The agency estimates that the only costs to the respondents are for the time it will take them to complete the collection. Please comment if respondents will incur start-up costs for reporting, or any recurring annual costs for operation, maintenance, and purchase of services associated with the information collection.

E. What additional actions could be taken to minimize the burden of this collection of information? Such actions may involve the use of automated, electronic, mechanical, or other technological collection techniques or other forms of information technology.

F. Does any other Federal, State, or local agency collect similar information? If so, specify the agency, the data element(s), and the methods of collection.

As a Potential User

A. Is the information useful at the levels of detail indicated on the form?

B. For what purpose(s) would the information be used? Be specific.

C. Are there alternate sources for the information and are they useful? If so, what are their weaknesses and/or strengths?

Comments submitted in response to this notice will be summarized and/or included in the request for OMB approval of the form. They also will become a matter of public record.

Statutory Authority: Section 3507(h)(1) and 3506(c) of the Paperwork Reduction Act of 1995 (Pub. L. No. 104-13, 44 U.S.C. Chapter 35).

Issued in Washington, D.C. June 26, 2000.
Jay H. Casselberry,
Agency Clearance Officer, Statistics and Methods Group, Energy Information Administration.

[FR Doc. 00-16555 Filed 6-29-00; 8:45 am]

BILLING CODE 6450-01-P